DEPARTMENT OF DEFENSE

Department of the Army; Corps of Engineers

Intent To Prepare a Draft Environmental Impact Statement for the Southwest Coastal Louisiana Feasibility Study

AGENCY: Department of the Army, U.S. Army Corps of Engineers, DoD.

ACTION: Notice of intent.

SUMMARY: The Corps of Engineers (Corps) intends to prepare an Environmental Impact Statement (EIS) for the Southwest Coastal Louisiana Feasibility Study for Calcasieu, Cameron and Vermilion Parishes, Louisiana. The Corps will evaluate a full suite of structural, nonstructural and coastal restoration measures to achieve hurricane protection and storm damage risk reduction within Calcasieu, Cameron and Vermilion Parishes in Louisiana. Southwestern Louisiana has been affected by several named storms in the past 50 years. The study area, which is characterized by low, flat terrain, is highly susceptible to flooding from tidal surges associated with hurricanes and tropical storms due to its close proximity to the Gulf of Mexico. Hurricanes that caused damage include Audrey (1957), Arlene (1959), Debra (1978), Chris (1982), Danny (1985), Juan (1985), Bonnie (1986), Allison (1989), Chantal (1989), Francis (1998), Hermine (1998), Allison (2001), Bertha (2002), Lili (2002), Rita (2005), Gustav (2008) and Ike (2008). As the ground elevation subsides relative to the levels of the Gulf of Mexico, the depth of potential flooding in the future will increase along with an increase in damages to the human and natural environments. Wetlands in the study area are affected by relative sea level rise, subsidence, tides and storm surge created by tropical storms and hurricanes, saltwater intrusion and ponding and reduced organic production. These conditions would continue at an increased rate as the mass of coastal land decreases.

DATES: See SUPPLEMENTARY INFORMATION section for scoping meeting dates.

FOR FURTHER INFORMATION CONTACT: Questions concerning the Draft Environmental Impact Statement (DEIS) should be addressed to Ms. Sandra Stiles at U.S. Army Corps of Engineers, CEMVNPM-RS, P.O. Box 60267, New Orleans, LA 70160-0267, phone (504) 862-1583, fax number (504) 862-2088 or by e-mail at sandra.e.stiles@usace.army.mil.

SUPPLEMENTARY INFORMATION: 1. Authority: Committee on Transportation and Infrastructure, U.S. House of Representatives, Resolution Docket 2747, Southwest Coastal Louisiana, LA authorized the Secretary of the Army in accordance with section 110 of the River and Harbor Act of 1962, to survey the coast of Louisiana in Cameron, Calcasieu and Vermilion Parishes with particular reference to the advisability of providing hurricane protection and storm damage reduction and related purposes to include the feasibility of constructing an armored 12 foot levee along the Gulf Intracoastal Waterway.

2. Proposed Action. The Corps will develop hurricane protection, storm damage risk reduction and coastal restoration measures for Calcasieu, Cameron and Vermilion Parishes to include: (1) Levee alignments to provide hurricane protection and reduce damages from storm surge; (2) restoring natural ecosystem features, such as Cheniers, to reduce damages from storm surge; (3) measures protecting, restoring or increasing wetlands to prevent saltwater intrusion or reduce storm surge; (4) measures reducing risk of storm damage to communities by preventing or reducing wetland losses in areas affected by navigation, oil and gas and other manmade channels; (5) creation of barrier islands to serve as the first line of defense against storms and reduce storm surge; (6) nonstructural measures such as raising structures in-place, relocating structures, buyouts, flood proofing and policy development.

3. Alternatives. Hurricane protection and surge reduction measures being considered include multi-parish levee alignments, ring levees, ridges, and breakwaters to provide multiple lines of defense. Coastal restoration measures being considered include restoration of Cheniers, creation of barrier islands, large-scale marsh creation and restoration, salinity control, hydrologic restoration, and restoration of natural features to prevent/reduce storm surge. Non-structural measures include raising structures in-place, property buyouts, relocations of residents and communities, flood-proofing and hardening of infrastructure. Once hurricane protection, storm surge risk reduction and coastal restoration measures are identified, alternative plans will be developed through various combinations of measures that best meet the study goals and objectives and are determined to be cost-effective, environmentally acceptable and technically feasible.

3. Public Involvement. Stakeholder and public involvement for this proposed action is integral to the project. Interested parties, concerned citizens, and other State and Federal agencies, private and not for profit or non-governmental organizations are strongly encouraged to participate in the development of the proposed action. Stakeholder and public meetings would be held throughout project development. Meeting announcements would be made as information becomes available.

4. Public Scoping Meeting. Scoping is the process utilized for determining the range of alternatives and significant issues to be addressed in the EIS. For this study, a letter will be mailed to all parties believed to have an interest in the analysis. The letter will notify interested parties of public scoping meetings that will be held in the local area and request their input on alternatives and issues to be evaluated. Notices will also be mailed to local news media. All interested parties are invited to comment at this time, and anyone interested in this study should request inclusion in the study mailing list. A public scoping meeting will be held March 24, 2009 from 6-9 p.m. in Cameron, Louisiana, March 25, 2009 from 6-9 p.m. in Lake Charles, Louisiana and March 26, 2009 from 6-9 p.m. in Abbeville, LA. The exact location and address for the meetings will be announced through local media channels. Additional meetings could be held, depending upon public interest and if it is determined that further public coordination is warranted.

5. Significant Issues. Tentatively, the important resources and issues that would be evaluated in the EIS include but are not limited to tidal wetlands (marshes and swamps), aquatic resources, commercial and recreational fisheries, wildlife resources, essential fish habitat, water quality, air quality, threatened and endangered species and critical habitat, recreation resources, and cultural resources. Socioeconomic items to be evaluated in the EIS include navigation; flood protection; business and industrial activity; oil and gas pipelines; employment; land use; property values; public/community facilities and services; tax revenues; population, community and regional growth; transportation; housing; community cohesion; environmental justice, aesthetics and noise.

6. Environmental Consultation and Review. The U.S. Fish and Wildlife Service (USFWS) will assist in documenting existing conditions and assessing effects of project alternatives through the Fish and Wildlife Coordination Act consultation procedures. The USFWS will provide a Fish and Wildlife Coordination Act report. Consultation will be accomplished with the USFWS and the National Marine Fisheries Service (NMFS) concerning threatened and endangered species and their critical habitat. The NMFS will be consulted regarding the effects of this proposed action on Essential Fish Habitat. The draft EIS or a notice of its availability will be distributed to all interested agencies, organizations, and individuals.

7. Estimated Date of Availability. The earliest that the DEIS is expected to be available is March of 2010.

Dated: February 18, 2009.
Alvin B. Lee,
Colonel, U.S. Army, District Engineer.

[FR Doc. E9-4202 Filed 2-26-09; 8:45 am]

BILLING CODE 3720-58-P